DEPARTMENT OF COMMERCE

International Trade Administration

[A-570-853]

Bulk Aspirin From the People's Republic of China; Initiation of Changed Circumstances Antidumping Duty Administrative Review

AGENCY: Import Administration, International Trade Administration, Department of Commerce.

ACTION: Notice of initiation of changed circumstances antidumping duty administrative review.

SUMMARY: The Department of Commerce is initiating a changed circumstances administrative review of the antidumping duty order on bulk aspirin from the People's Republic of China (“PRC”) (see Notice of Antidumping Duty Order: Bulk Aspirin from the People's Republic of China (65 FR 42673, July 11, 2000)) in response to a request from Jilin Pharmaceutical Import and Export Corporation, Jilin Pharmaceutical (U.S.A.) Inc., and Jilin Pharmaceutical Limited Company. These entities have requested that, contemporaneous with the ongoing administrative review of the order, the Department of Commerce review the company's name change and determine that Jilin Henghe Pharmaceutical is the successor-in-interest of Jilin Pharmaceutical Company Ltd. and Jilin Pharmaceutical Import and Export Corporation.

EFFECTIVE DATE: June 7, 2002.

FOR FURTHER INFORMATION CONTACT: Blanche Ziv or Cole Kyle, Import Administration, International Trade Administration, U.S. Department of Commerce, 14th Street and Constitution Avenue, NW, Washington, DC 20230; telephone (202) 482-4207 and (202) 482-1503 respectively.

Applicable Statute

Unless otherwise indicated, all citations to the Tariff Act of 1930, as amended (the “Act”), are references to the provisions effective January 1, 1995, the effective date of the amendments made to the Act by the Uruguay Round Agreements Act. In addition, unless otherwise indicated, all citations to the Department of Commerce's (“Department”) regulations are to 19 CFR Part 351 (2002).

SUPPLEMENTARY INFORMATION:

Background

On July 31, 2001, a respondent in this proceeding, Jilin Pharmaceutical Import and Export Company, Jilin Pharmaceutical (U.S.A.) Inc., and Jilin Pharmaceutical Limited Company (collectively, “Jilin Pharmaceutical”) notified the Department that in 1999, its corporate name changed to Jilin Henghe Pharmaceutical Company Ltd. (“Jilin Henghe”). On December 14, 2001, Jilin Pharmaceutical stated that during the period of review (“POR”) of the concurrent administrative review (see Initiation of Antidumping and Countervailing Duty Administrative Reviews and Requests for Revocation in Part, 66 FR 43570 (August 20, 2001)), the export operations for subject merchandise, which were handled by Jilin Pharmaceutical Import and Export Company during the original investigation (see Notice of Final Determination of Sales at Less than Fair Value: Bulk Aspirin from the People's Republic of China, 65 FR 39598 (May 25, 2000) (“LTFV investigation”)), were handled by the sales department for medicinal materials of Jilin Henghe. Jilin Pharmaceutical also stated that during the POR, subject merchandise was produced at the same facilities that Jilin Pharmaceutical used to produce subject merchandise during the LTFV investigation. On May 24, 2002, Jilin Pharmaceutical provided documentation to support this claim, consisting of a government document approving its name change and its continuing right to export subject merchandise to the United States.

The information submitted by Jilin Pharmaceutical shows changed circumstances sufficient to warrant a review. Therefore, we are initiating a changed circumstances administrative review pursuant to section 751(b)(1) of the Act to determine whether entries naming Jilin Henghe as manufacturer or exporter should receive the cash deposit rate currently applied to Jilin Pharmaceutical.

Scope of the Review

The merchandise subject to this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is classified under HTSUS subheading 3003.90.0000. Although the HTSUS subheadings are provided for convenience and customs purposes, the written description of the merchandise under review is dispositive.

Initiation of Changed Circumstances Review

Pursuant to section 751(b)(1) of the Act, the Department will conduct a changed circumstances review upon receipt of information concerning, or a request from an interested party of, an antidumping duty order which shows changed circumstances sufficient to warrant a review of the order.

Jilin Pharmaceutical contends that its corporate name and successor-in-interest have changed and that no changes have occurred with respect to its production facilities. We therefore find good cause to conduct a changed circumstances review. See 19 CFR 351.216(c). Therefore, in accordance with section 751(b)(1) of the Act, we are initiating a changed circumstances review based upon the information contained in Jilin Pharmaceutical's submissions.

The Department will publish in the Federal Register a notice of preliminary results of changed circumstances antidumping duty administrative review, concurrent with the ongoing administrative review, in accordance with 19 CFR 351.221(b)(4) and 351.221(c)(3)(i), which will set forth the Department's preliminary factual and legal conclusions. The Department will issue its final results of review in accordance with the time limits set forth in 19 CFR 351.216(e).

This notice is in accordance with section 751(b)(1) of the Act.

Dated: June 3, 2002.
Richard W. Moreland,
Deputy Assistant Secretary for Import Administration, Group 1.

[FR Doc. 02-14380 Filed 6-6-02; 8:45 am]

BILLING CODE 3510-DS-P